DEPARTMENT OF COMMERCE

Census Bureau

National Advisory Committee

AGENCY: Census Bureau, Department of Commerce.

ACTION: Notice of public virtual meeting.

SUMMARY: The Census Bureau is giving notice of a virtual meeting of the National Advisory Committee (NAC). The Committee will address strategies for communicating the use of differential privacy for the 2020 Census data products. Additionally, the Committee will provide recommendations for messaging and communication strategies for information data users, of all skill levels, about what differential privacy is, the data protection it provides, the privacy/accuracy tradeoff, and the strengths and limitations of the 2020 Census data products. Last-minute changes to the schedule are possible, which could prevent giving advance public notice of schedule adjustments. Please visit the Census Advisory Committees website at http://www.census.gov/cac for the NAC meeting information, including the agenda, and how to join the meeting.

DATES: The virtual meeting will be held on:

• Monday, March 7, 2022, from 2:30 p.m. to 5:30 p.m. EST

ADDRESSES: The meeting will be held via the WebEx platform at the following presentation link: https://uscensus.webex.com/uscensus/onstage/g.php?MTID=ef2fcdf3c141cd9c576c2ccab7652d431.

For audio, please call the following number: 888-566-6192. When prompted, please use the following Password: Census2022!, and Passcode: 4881978#.

FOR FURTHER INFORMATION CONTACT: Shana Banks, Advisory Committee Branch Chief, Office of Program, Performance and Stakeholder Integration (PPSI), shana.j.banks@census.gov, Department of Commerce, U.S. Census Bureau, telephone 301-763-3815. For TTY callers, please use the Federal Relay Service at 1-800-877-8339.

SUPPLEMENTARY INFORMATION: The NAC provides technical expertise to address Census Bureau program needs and objectives. The members of the NAC are appointed by the Director of the Census Bureau. The NAC has been established in accordance with the Federal Advisory Committee Act (Title 5, United States Code, Appendix 2, Section 10).

All meetings are open to the public. A brief period will be set aside during the virtual meeting for public comments on March 7, 2022. However, individuals with extensive questions or statements must submit them in writing to shana.j.banks@census.gov, (subject line “NAC Differential Privacy Virtual Meeting Public Comment”).

Robert L. Santos, Director, Census Bureau, approved the publication of this Notice in the Federal Register.

Dated: February 14, 2022.
Sheleen Dumas,
Department PRA Clearance Officer, Office of the Chief Information Officer, Commerce Department.

[FR Doc. 2022-03548 Filed 2-17-22; 8:45 am]

BILLING CODE 3510-07-P